DEPARTMENT OF JUSTICE

Drug Enforcement Administration

[Docket No. DEA-830]

Bulk Manufacturer of Controlled Substances Application: Cargill, Incorporated

AGENCY: Drug Enforcement Administration, Justice.

ACTION: Notice of application.

SUMMARY: Cargill, Inc., has applied to be registered as a bulk manufacturer of basic class(es) of controlled substance(s). Refer to Supplemental Information listed below for further drug information.

DATES: Registered bulk manufacturers of the affected basic class(es), and applicants therefore, may file written comments on or objections to the issuance of the proposed registration on or before July 6, 2021. Such persons may also file a written request for a hearing on the application on or before July 6, 2021.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on March 31, 2021, Cargill, Incorporated, 17540 Monroe Wapello Road, Eddyville, Iowa 52553, applied to be registered as a bulk manufacturer of the following basic class(es) of controlled substance(s):

Controlled substance | Drug code | Schedule
Gamma Hydroxybutyric Acid | 2010 | I

The company plans to bulk manufacture butanediol as a raw material for industrial and consumer products. Gamma Hydroxybutyric Acid will be manufactured as a byproduct and an impurity waste of butanediol. The company does not plan to bulk manufacture this drug. No other activities for this drug code are authorized for this registration.

William T. McDermott,
Assistant Administrator.

[FR Doc. 2021-09301 Filed 5-3-21; 8:45 am]

BILLING CODE P